INTERNATIONAL TRADE COMMISSION

[USITC SE-12-019]

Sunshine Act Meeting

AGENCY HOLDING THE MEETING: International Trade Commission.

TIME AND DATE: July 19, 2012 at 11:00 a.m.

PLACE: Room 100, 500 E Street SW., Washington, DC 20436, Telephone: (202) 205-2000.

STATUS: Open to the public.

MATTERS TO BE CONSIDERED:

1. Agendas for future meetings: none.

2. Minutes.

3. Ratification List.

4. Vote in Inv. Nos. 731-TA-1202 and 1203 (Preliminary)(Xanthan Gum from Austria and China). The Commission is currently scheduled to transmit its determinations to the Secretary of Commerce on or before July 20, 2012; Commissioners' opinions are currently scheduled to be transmitted to the Secretary of Commerce on or before July 27, 2012.

5. Outstanding action jackets: none.

In accordance with Commission policy, subject matter listed above, not disposed of at the scheduled meeting, may be carried over to the agenda of the following meeting.

By order of the Commission:
Issued: July 9, 2012.
Lisa R. Barton,
Acting Secretary to the Commission.

[FR Doc. 2012-17275 Filed 7-11-12; 4:15 pm]

BILLING CODE 7020-02-P